DEPARTMENT OF DEFENSE

Department of the Army, U.S. Army Corps of Engineers

Notice of Extension of the Public Comment Period for the Draft Missouri River Recovery Management Plan and Environmental Impact Statement

AGENCY: Department of the Army, U.S. Army Corps of Engineers, DoD.

ACTION: Notice.

SUMMARY: On December 16, 2016 the U.S. Army Corps of Engineers (USACE) issued a Notice of Availability in the Federal Register (81 FR 91151) for the Draft Missouri River Recovery Management Plan and Environmental Impact Statement (MRRMP-EIS). The original comment period was scheduled to end February 24, 2017. This notice extends the public comment period to April 24, 2017.

DATES: Submit written comments on the draft EIS on or before April 24, 2017. ADDRESSES: Send written comments to U.S. Army Corps of Engineers, Omaha District, ATTN: CENWO-PM-AC—MRRMP-EIS, 1616 Capitol Ave., Omaha, NE 68102; or provide comments via an online comment form (preferred method) at http://parkplanning.nps.gov/MRRMP.

FOR FURTHER INFORMATION CONTACT: The above address or email to cenwo-planning@usace.army.mil.

SUPPLEMENTARY INFORMATION: None.

Dated: February 6, 2017.
Mark Harberg,
Missouri River Recovery Program Manager, U.S. Army Corps of Engineers.

[FR Doc. 2017-03210 Filed 2-16-17; 8:45 am]

BILLING CODE 3720-58-P